DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than December 31, 2009.

Interested persons are invited to submit written comments regarding the subject matter of the investigations to the Director, Division of Trade Adjustment Assistance, at the address shown below, not later than December 31, 2009.

The petitions filed in this case are available for inspection at the Division of Trade Adjustment Assistance, Employment and Training Administration, U.S. Department of Labor, Room N-5428, 200 Constitution Avenue, NW., Washington, DC 20210.

Signed at Washington, DC, this 11th day of December 2009.
Elliott Kushner,
Certifying Officer, Division of Trade Adjustment Assistance.

APPENDIX
[TAA petitions instituted between 11/23/09 and 11/27/09]
TA-W | Subject firm (petitioners) | Location | Date of institution | Date of petition
72917 | Circuit City Distributer PRC 255 (Wkrs) | Bethlehem, PA | 11/23/09 | 11/20/09
72918 | Northeast Machine & Tool Company (Wkrs) | Mt. Pleasant, TX | 11/23/09 | 11/20/09
72919 | Nelson Frames, Inc. (Comp) | Sophia, NC | 11/23/09 | 11/20/09
72920 | Albany International Corporation (Wkrs) | Albany, NY | 11/23/09 | 11/11/09
72921 | Kostal of America, Inc. (Comp) | Troy, MI | 11/23/09 | 11/20/09
72922 | Boehringer-Ingelheim USA Corporation (Wkrs) | Ridgefield, CT | 11/23/09 | 11/19/09
72923 | Carhartt, Inc. (Comp) | Glasgow, KY | 11/23/09 | 11/20/09
72923A | Carhartt, Inc. (Comp) | Glasgow, KY | 11/23/09 | 11/20/09
72924 | Heritage Aviation, LTD (Comp) | Grand Prairie, TX | 11/23/09 | 11/20/09
72925 | Honeywell (Comp) | Folsom, CA | 11/23/09 | 11/20/09
72926 | Freescale Semiconductor (State) | Austin, TX | 11/24/09 | 11/19/09
72927 | IC Corporation (Union) | Conway, AR | 11/24/09 | 11/12/09
72928 | Smith Logging, Inc. (Comp) | Kalispell, MT | 11/24/09 | 11/20/09
72929 | Republic Engineered Products, Inc. (Union) | Lorain, OH | 11/24/09 | 11/20/09
72930 | Kik Custom Products (Wkrs) | City of Industry, CA | 11/24/09 | 11/23/09
72931 | Mazer Creative Services (Wkrs) | Maitland, FL | 11/24/09 | 11/09/09
72932 | Swimwear Anywhere, Inc. (Comp) | Farmingdale, NY | 11/24/09 | 11/23/09
72933 | Electronic Data Systems (State) | Pontiac, MI | 11/24/09 | 10/30/09
72934 | Inteva/Duluth Services (Union) | Orion, MI | 11/24/09 | 11/23/09
72935 | T-Shirt International, Inc. (Comp) | Culloden, WV | 11/24/09 | 11/18/09
72936 | Current Medicine Group, LLC (Wkrs) | Philadelphia, PA | 11/24/09 | 11/19/09
72937 | Severstal North America (Union) | Dearborn, MI | 11/24/09 | 10/30/09
72938 | Schneider Electric (Comp) | Seneca, SC | 11/24/09 | 11/23/09
72939 | Span America Inc. (Wkrs) | Worcester, PA | 11/24/09 | 11/23/09
72940 | EDS, an HP Company (State) | Alpharetta, GA | 11/24/09 | 11/18/09
72941 | Boeing Aerospace Corporation (State) | Seattle, WA | 11/25/09 | 11/24/09
72942 | V & W Packaging (Comp) | Hickory, NC | 11/25/09 | 11/24/09
72943 | General Motors Corporation—Hamtramck Assembly (Union) | Detroit, MI | 11/25/09 | 11/23/09
72944 | Xpedx International Paper (Wkrs) | Camp Hill, PA | 11/25/09 | 11/24/09
72945 | Blumenthal Printworks (Wkrs) | Murfreesboro, TN | 11/25/09 | 11/23/09
72946 | Kraft Foods Global (Wkrs) | Wilkes-Barre, PA | 11/25/09 | 11/24/09
72947 | Supreme Foam, Inc. (Comp) | Archdale, NC | 11/25/09 | 11/17/09
72948 | Cooper Tire & Rubber Company (Comp) | Cedar Rapids, IA | 11/25/09 | 11/24/09
72949 | Western Digital Corporation (Wkrs) | Lake Forest, CA | 11/25/09 | 11/17/09
72950 | Pittsburgh Coatings (Wkrs) | Ambridge, PA | 11/25/09 | 11/23/09
72951 | Alstorm Transportation (Wkrs) | Williston, VT | 11/25/09 | 11/24/09
72952 | Maersk (State) | Madison, NJ | 11/25/09 | 11/24/09
72953 | Matthews International Corporation (Wkrs) | Kingwood, WV | 11/25/09 | 11/23/09
72954 | RBP Chemical Technology, Inc. (Comp) | Milwaukee, WI | 11/25/09 | 11/24/09
72955 | Bridgestone Americas (Union) | Akron, OH | 11/25/09 | 11/24/09
72956 | Jasper Chair (Wkrs) | Jasper, IN | 11/25/09 | 11/19/09
72957 | Hoffco/Comet Industries (Comp) | Richmond, IN | 11/25/09 | 11/20/09
72958 | YRC Worldwide, Inc. (State) | Burnsville, MN | 11/27/09 | 11/25/09
72959 | Ansonia Copper & Brass, Inc. (State) | Waterbury, CT | 11/27/09 | 11/25/09
72960 | Chrysler Financial (State) | Farmington Hills, MI | 11/27/09 | 11/02/09
72961 | Inteva Products, LLC (State) | Troy, MI | 11/27/09 | 11/03/09
72962 | American Axle & Manufacturing (State) | Oxford, MI | 11/27/09 | 11/03/09
72963 | General Electric—Carolina Plant (Comp) | Goldsboro, NC | 11/27/09 | 11/16/09
72964 | Jabil Circuit, Inc. (State) | Auburn Hills, MI | 11/27/09 | 11/03/09
72965 | Hickory Dyeing & Winding Co., Inc. (Comp) | Hickory, NC | 11/27/09 | 11/24/09
72966 | Damascus Steel Casting Company (Wkrs) | New Brighton, PA | 11/27/09 | 11/25/09
72967 | General Electric Transportation (Wkrs) | Grove City, PA | 11/27/09 | 11/24/09
72968 | WC Wood Corporation, Inc. (Wkrs) | Ottawa, OH | 11/27/09 | 11/24/09
72969 | Agfa Healthcare (Wkrs) | Greenville, SC | 11/27/09 | 11/25/09
72970 | Hopper Development, Inc. (Comp) | Logansport, IN | 11/27/09 | 11/25/09
72971 | ASC Machine Tools, Inc. (Union) | Spokane Valley, WA | 11/27/09 | 11/24/09

[FR Doc. E9-30246 Filed 12-18-09; 8:45 am]

BILLING CODE 4510-FN-P